DEPARTMENT OF AGRICULTURE

National Agricultural Statistics Service

Notice of Intent To Seek Reinstatement of an Information Collection

AGENCY: National Agricultural Statistics Service, USDA.

ACTION: Notice and request for comments.

SUMMARY: In accordance with the Paperwork Reduction Act of 1995 (Pub. L. 104-13) and Office of Management and Budget regulations at 5 CFR part 1320 (60 FR 44978, August 29, 1995), this notice announces the intention of the National Agricultural Statistics Service (NASS) to seek approval for reinstatement of an information collection, the Farm and Ranch Irrigation Survey.

DATES: Comments on this notice must be received by June 18, 2003, to be assured of consideration.

ADDRESSES: Comments may be mailed to Ginny McBride, NASS Information Collection Clearance Officer, U.S. Department of Agriculture, Room 5336 South Building, 1400 Independence Avenue, SW., Washington, DC 20250-2024 or sent electronically to gmcbride@nass.usda.gov.

FOR FURTHER INFORMATION CONTACT: Carol House, Associate Administrator, National Agricultural Statistics Service, U.S. Department of Agriculture, (202) 720-4333.

SUPPLEMENTARY INFORMATION: Title: Farm and Ranch Irrigation Survey.

OMB Control Number: 0535—0234.

Type of Request: Intent to Seek Approval to Reinstate an Information Collection.

Abstract: The Farm and Ranch Irrigation Survey is conducted every 5 years as authorized by the Census of Agriculture Act of 1997 (Pub. L. No. 105-113). The 2003 Farm and Ranch Irrigation Survey will use a probability sample from farms that reported irrigation on the 2002 Census of Agriculture. This irrigation survey will provide a comprehensive inventory of farm irrigation practices with detailed data relating to acres irrigated by category of land use, acres and yields of irrigated and non-irrigated crops, quantity of water applied, and method of application to selected crops. Also included will be 2003 expenditures for maintenance and repair of irrigation equipment and facilities; purchase of energy for on-farm pumping of irrigation water; investment in irrigation equipment, facilities, and land improvement; and cost of water received from off-farm water supplies. Irrigation data are used by the farmers, their representatives, government agencies, and many other groups concerned with the irrigation industry. This survey will provide the only source of dependable, comparable irrigation data by State. The National Agricultural Statistics Service will use the information collected only for statistical purposes and will publish the data only as tabulated totals.

Estimate of Burden: Public reporting burden for this collection of information is estimated to average 30 minutes per response.

Respondents: Farms.

Estimated Number of Respondents: 25,000.

Estimated Total Annual Burden on Respondents: 12,500 hours.

Copies of this information collection and related instructions can be obtained without charge from Ginny McBride, NASS Information Collection Clearance Officer, at (202) 720-5778.

Comments are invited on: (a) Whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, including through the use of appropriate automated, electronic, mechanical, or other technological collection techniques or other forms of information technology.

All responses to this notice will become a matter of public record and be summarized in the request for OMB approval.

Signed in Washington, DC, March 24, 2003.
Carol House,
Associate Administrator.

[FR Doc. 03-9039 Filed 4-11-03; 8:45 am]

BILLING CODE 3410-20-P